FEDERAL COMMUNICATIONS COMMISSION

Information Collection Approved by the Office of Management and Budget (OMB)

AGENCY: Federal Communications Commission.

ACTION: Notice.

SUMMARY: The Federal Communications Commission (FCC) has received Office of Management and Budget (OMB) approval for the following public information collections pursuant to the Paperwork Reduction Act of 1995 (44 U.S.C. 3501-3520). An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Rosaline Crawford, Consumer and Governmental Affairs Bureau, Disability Rights Office, (202) 418-2075 or e-mail Rosaline.Crawford@fcc.gov <mailto:Rosaline.Crawford@fcc.gov>.

SUPPLEMENTARY INFORMATION: OMB Control No.: 3060-0855.

OMB Approval Date: 10/14/2011.

Expiration Date: 10/31/2014.

Title: Telecommunications Reporting Worksheets and Related Collections, FCC Forms 499-A and 499-Q.

Form No.: FCC Forms 499-A and 499-Q.

Estimated Annual Burden: 8,183 respondents; 46,957 responses; .25 hours to 25 hours per response; 313,881 burden hours per year; $0 annual cost burden.

Obligation to Respond: Mandatory. Statutory authority for this information collection is contained in sections 151, 154(i), 154(j), 155, 157, 201, 205, 214, 225, 254, 303(r), 715 and 719 of the Act, 47 U.S.C. 151, 154(i), 154(j), 155, 157, 201, 205, 214, 225, 254, 303(r), 616, and 620.

Nature and Extent of Confidentiality: The Commission will allow respondents to certify that data contained in their submissions is privileged or confidential commercial or financial information and that disclosure of such information would likely cause substantial harm to the competitive position of the entity filing the FCC worksheets. If the Commission receives a request for or proposes to disclose the information, the respondent would be required to make the full showing pursuant to the Commission's rules for withholding from public inspection information submitted to the Commission.

Needs and Uses: On October 7, 2011, the Commission released the Contributions to the Telecommunications Relay Services Fund Report and Order (Report and Order) FCC 11-150, adopting rules to implement section 715 of the Act. The Report and Order takes the following actions: Requires non-interconnected voice over Internet protocol (VoIP) service providers with interstate end-user revenues that are subject to contribution to the Telecommunications Relay Services (TRS) Fund to register with the Commission, designate a District of Columbia agent for service of process, annually file FCC Form 499-A, and contribute to the TRS Fund; extends the 64.9 percent safe harbor provision for calculating interstate end-user revenues to non-interconnected VoIP service providers; maintains interstate end-user revenues as the basis for calculating TRS Fund contributions; requires no contributions to the TRS Fund by non-interconnected VoIP service providers that offer services for free and have zero interstate end-user revenues.

The modification is to apply the registration and annual filing requirement for FCC Form 499-A to non-interconnected VoIP service providers, pursuant to 47 U.S.C. 1, 4(i), (4)(j), 225, and 715 of the Act, as amended 47 U.S.C. 151, 154(i), 154(j), 225, and 616; and 47 CFR 64.601 through 64.613 of the Commission's rules. The application of the FCC Form 499-A to carriers, interconnected VoIP service providers, and non-interconnected VoIP service providers, is needed to administer the Universal Service Fund, the TRS Fund, and the cost recovery mechanism for numbering administration and long-term number portability. FCC Form 499-Q and its instructions remain unchanged.

Federal Communications Commission.
Marlene H. Dortch,
Secretary, Office of the Secretary, Office of Managing Director.

[FR Doc. 2011-27469 Filed 10-24-11; 8:45 am]

BILLING CODE 6712-01-P